DEPARTMENT OF COMMERCE

International Trade Administration

[A-427-818]

Low Enriched Uranium From France: Initiation of Antidumping Duty Changed Circumstances Review

AGENCY: Import Administration, International Trade Administration, Department of Commerce.

SUMMARY: Pursuant to section 751(b) of the Tariff Act of 1930, as amended (the Act), and 19 CFR 351.216 and 351.221(c)(3), the Department of Commerce (Department) is initiating a changed circumstances review of the antidumping duty order on low enriched uranium (LEU) from France with respect to Eurodif S.A. and AREVA NP Inc. (collectively, AREVA).

DATES: Effective Date: January 9, 2012.

FOR FURTHER INFORMATION CONTACT: Emily Halle, AD/CVD Operations, Office 6, Import Administration, International Trade Administration, U.S. Department of Commerce, 14th Street and Constitution Avenue NW., Washington, DC 20230; telephone: (202) 482-0176.

SUPPLEMENTARY INFORMATION:

Background

On December 5, 2011, AREVA requested that the Department initiate and conduct an expedited changed circumstances review to amend the scope of the antidumping duty order as it applies to one entry of LEU entered by AREVA that was not subject to the antidumping duty order at the time of entry. AREVA provided additional information on December 13, 2011, including entry documentation and a more detailed description of the circumstances leading to this request.¹ At the time of the entry at issue, the entry met the requirements of a narrow exclusion from the scope of the order (see Scope of the Order section, below). However, as a result of the temporary shutdown of its Japanese customer caused by the earthquake and tsunami that struck Japan on March 11, 2011,² AREVA will be unable to meet the requirements of the scope exclusion by re-exporting the LEU within the specified deadline. Therefore, AREVA is requesting that the Department conduct a changed circumstances review for the purpose of amending the scope of the order to extend by 18 months the deadline for re-exporting the LEU entry at issue.

¹ See Letter from AREVA, “Low Enriched Uranium from France,” dated December 13, 2011.

² See Letter from AREVA, “Low Enriched Uranium from France,” dated December 5, 2011.

On December 14, 2011, USEC Inc. and its subsidiary, United States Enrichment Corporation (collectively, “USEC”), submitted a letter expressing no objection to AREVA's request regarding the entry at issue.

Scope of the Order

The product covered by the order is all low enriched uranium (LEU). LEU is enriched uranium hexafluoride (UF6) with a U²³⁵ product assay of less than 20 percent that has not been converted into another chemical form, such as UO2, or fabricated into nuclear fuel assemblies, regardless of the means by which the LEU is produced (including LEU produced through the down-blending of highly enriched uranium).

Certain merchandise is outside the scope of the order. Specifically, the order does not cover enriched uranium hexafluoride with a U²³⁵ assay of 20 percent or greater, also known as highly enriched uranium. In addition, fabricated LEU is not covered by the scope of the order. For purposes of the order, fabricated uranium is defined as enriched uranium dioxide (UO2), whether or not contained in nuclear fuel rods or assemblies. Natural uranium concentrates (U3O8) with a U²³⁵ concentration of no greater than 0.711 percent and natural uranium concentrates converted into uranium hexafluoride with a U²³⁵ concentration of no greater than 0.711 percent are not covered by the scope of the order.

Also excluded from the order is LEU owned by a foreign utility end-user and imported into the United States by or for such end-user solely for purposes of conversion by a U.S. fabricator into uranium dioxide (UO2) and/or fabrication into fuel assemblies so long as the uranium dioxide and/or fuel assemblies deemed to incorporate such imported LEU (i) remain in the possession and control of the U.S. fabricator, the foreign end-user, or their designed transporter(s) while in U.S. customs territory, and (ii) are re-exported within eighteen (18) months of entry of the LEU for consumption by the end-user in a nuclear reactor outside the United States. Such entries must be accompanied by the certifications of the importer and end user.

The merchandise subject to this order is classified in the Harmonized Tariff Schedule of the United States (HTSUS) at subheading 2844.20.0020. Subject merchandise may also enter under 2844.20.0030, 2844.20.0050, and 2844.40.00. Although the HTSUS subheadings are provided for convenience and customs purposes, the written description of the merchandise subject to this proceeding is dispositive.

Initiation of Changed Circumstances Review

Pursuant to section 751(b)(1) of the Act and 19 CFR 351.216(d), the Department will conduct a changed circumstances review upon receipt of information concerning, or a request from an interested party for a review of, an antidumping duty order which shows changed circumstances sufficient to warrant a review of the order. Based on the information and documentation AREVA submitted in its December 5 and December 13, 2011 letters, we find that we have received information which shows changed circumstances sufficient to warrant initiation of such a review in order to determine whether the circumstance described by AREVA support an extension of the 18-month period to re-export the specified entry of LEU that is currently under the 18-month exclusion from the antidumping duty order.³ Therefore, in accordance with the above-referenced statute and regulation, the Department is initiating a changed circumstances review.

³ See 19 CFR 351.216(d).

AREVA also requested that the Department conduct an expedited changed circumstances review, in accordance with 19 CFR 351.221(c)(3)(ii), and issue the preliminary results of changed circumstances review together with the initiation. The Department has decided that simultaneous issuance of the preliminary review is not appropriate. However, the Department does intend to issue the preliminary results of the changed circumstances review within 30 days of the publication of this initiation notice. Parties wishing to provide factual information for the Department's consideration must do so within 15 days of the publication of this notice. We intend to issue the final results of the changed circumstances review within 270 days from the date of initiation of this changed circumstance review, or within 45 days of the date of initiation if all parties to the proceeding agree to the outcome of the review.⁴

⁴ See 19 CFR 351.216(e).

This notice of initiation is in accordance with section 751(b)(1) of the Act and 19 CFR 351.221(b)(1).

Dated: December 30, 2011.
Gary Taverman,
Acting Deputy Assistant Secretary, for Antidumping and Countervailing Duty Operations.

[FR Doc. 2012-157 Filed 1-6-12; 8:45 a.m.]

BILLING CODE 3510-DS-P